ENVIRONMENTAL PROTECTION AGENCY

[FRL-7032-9]

Summary Report of the Technical Workshop on Issues Associated With Considering Developmental Changes in Behavior and Anatomy When Assessing Exposure to Children

AGENCY: Environmental Protection Agency (EPA).

ACTION: Notice of availability of a final report.

SUMMARY: The Environmental Protection Agency's (EPA) Risk Assessment Forum (RAF) announces the availability of a final report, Summary Report of the Technical Workshop on Issues Associated with Considering Developmental Changes in Behavior and Anatomy when Assessing Exposure to Children (EPA/630/R-00/005, December 2000). The report presents information and materials from a peer involvement workshop held by the RAF. Eastern Research Group, Inc., an EPA contractor, organized and convened the meeting on behalf of the RAF in Washington, DC on July 26 and 27, 2000. The meeting discussions focused on how to consider age-related changes in behavior and physical development when assessing childhood exposures to environmental contaminants. These discussions are part of EPA's ongoing efforts to improve the assessment of risk to children.

ADDRESSES: The document will be made available electronically through the Risk Assessment Forum's web site (www.epa.gov/ncea/raf/rafpub.htm). A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: Steven Knott, Risk Assessment Forum (8601D), U.S. Environmental Protection Agency, 1200 Pennsylvania Avenue, NW., Washington DC 20460; telephone: 202-564-3359; facsimile: 202-565-0062; email: knott.steven@epa.gov.

SUPPLEMENTARY INFORMATION: An Agency workgroup convened under the auspices of the RAF has been exploring children's exposure assessment issues. This workgroup has concluded that a major issue facing Agency assessors is how to consider age-related changes in behavior and physiology when preparing exposure assessments for children. Children's behavior changes over time in ways that can have an important impact on exposure. Further, children's physiology changes over time in ways that can impact both their exposures and their susceptibility to certain health effects. There are two aspects to these physiological changes. First, there are anatomical changes resulting from physical growth. Second, there are changes in pharmacokinetics and pharmacodynamics that affect the absorption, distribution, excretion and effects of environmental contaminants. The Agency is examining the pharmacokinetic/pharmacodynamic changes in children through other efforts and future meetings on this topic are anticipated. The July 2000 workshop focused on incorporating age-related changes in behavior and anatomy into Agency exposure assessments.

Dated: July 19, 2001.
Art Payne,
Acting Director, National Center for Environmental Assessment.

[FR Doc. 01-20507 Filed 8-14-01; 8:45 am]

BILLING CODE 6560-50-P